DEPARTMENT OF THE INTERIOR

Bureau of Indian Affairs

[212A2100DD/AAKC001030/A0A501010.999900253G]

Environmental Impact Statement for the Yahthumb Solar Project on the Moapa River Indian Reservation, Clark County, Nevada

AGENCY: Bureau of Indian Affairs, Interior.

ACTION: Notice of intent.

SUMMARY: The Bureau of Indian Affairs (BIA), as lead agency in cooperation with the Moapa Band of Paiute Indians (Moapa Band), Bureau of Land Management (BLM), and other agencies, intend to prepare an Environmental Impact Statement (EIS) that will evaluate the development of the Yahthumb Solar Project (Project) on the Moapa River Indian Reservation (Reservation). This notice announces the beginning of the scoping process to solicit public comments and identify potential issues related to the EIS. The BIA requests comments concerning the scope of the analysis, and identification of relevant information, studies, and analyses. It also announces that two public scoping meetings will be held virtually to identify potential issues, alternatives, and mitigation to be considered in the EIS.

DATES: All comments must be received July 26, 2021. The draft EIS is scheduled for December 2021 and the final EIS is scheduled for May 2022 with a Record of Decision in June 2022. The dates of the public scoping meetings will be included in notices to be posted in the Las Vegas Sun, Las Vegas Review-Journal, and Moapa Valley Progress 15 days before the meetings.

ADDRESSES: Send written comments to Mr. Chip Lewis, BIA Western Regional Office, 2600 North Central Avenue, 4th Floor Mailroom, Phoenix, Arizona 85004. Comments may also be sent via email to Chip.Lewis@bia.gov or on the Projects website at www.YahthumbSolarProjectEIS.com. Please see the SUPPLEMENTARY INFORMATION section of this notice for directions on submitting comments. The public meetings can be joined online through the Projects website at www.YahthumbSolarProjectEIS.com.

FOR FURTHER INFORMATION CONTACT: Chip Lewis, BIA; telephone: (602) 379-6750; email: Chip.Lewis@bia.gov. Individuals who use telecommunication devices for the deaf (TDD) may call the Federal Information Relay Service (FIRS) at 1-800-877-8339 between 8 a.m. and 8 p.m., Eastern Time, Monday through Friday.

SUPPLEMENTARY INFORMATION:

I. Proposed Federal Action

A. Purpose and Need for the Proposed Action

The proposed Federal action, taken under 25 U.S.C. 415, is BIA's approval of the solar energy ground lease and related agreements entered into by the Moapa Band with Yahthumb Solar Project, LLC (Applicant). The agreements provide for construction, operation and maintenance (O&M), and decommissioning of a 138-megawatt (MW) alternating current (MWac) solar photovoltaic (PV) electricity generation facility located entirely on the Reservation and specifically on lands held in trust by the United States for the Moapa Band.

In addition, a transmission generation interconnection (gen-tie) line would be constructed to interconnect the Project to the regional electrical grid. Portions of this line would cross lands managed by BLM within a designated utility corridor on the Reservation and BLM land. The BIA and BLM would approve rights-of-way (ROWs) authorizing the construction and operation of the transmission line.

The purposes of the proposed Project are, among other things, to: (1) Help to provide a long-term, diverse, and viable economic revenue base and job opportunities for the Moapa Band; (2) meet the terms of the existing Power Purchase Agreement (PPA) for the output of the Project; (3) help Nevada and neighboring States to meet their State renewable energy needs; and (4) allow the Moapa Band, in partnership with the Applicant, to optimize the use of the lease site while maximizing the potential economic benefit to the Tribe.

B. Preliminary Proposed Action and Alternatives

The Applicant plans to develop the Yahthumb Solar Project on the Reservation in Clark County, Nevada. The solar project would generate 138 MWs of solar energy generation, using PV technology, and would incorporate a battery energy storage system (BESS).

The proposed Yahthumb solar generating facility would be constructed on up to 1,400 acres within a lease study area of approximately 1,695 acres of Tribal trust land on the Reservation set aside by the Moapa Band for the Project. The solar field and associated facilities would be in parts of Sections 29, 30, 31, and 32 in Township 15 South, Range 65 East; Section 1 in Township 16 South, Range 64 East; and Section 6 in Township 16 South, Range 65, East Mount Diablo Base Meridian.

Major components of the solar site would include multiple blocks of solar PV panels mounted on single-axis tracking systems, associated inverter and transformer equipment, collection lines, BESS, a Project substation, and O&M facilities. Construction of the Project is expected to take approximately 14 months.

A gen-tie line approximately 8.5 to 10 miles long would interconnect the Project to the regional electrical grid at the existing Reid-Gardner Substation. This line would be built on the Reservation within a designated utility corridor that is managed by BLM, on BLM-managed Federal land, and on private land near the existing substation.

Primary access to the Yahthumb site would be provided via Interstate-15 to the existing Ute Road on the Reservation that would be upgraded as needed. Secondary access would be provided via an existing road within the designated utility corridor that would also be upgraded as needed. The water supply for the Project would be leased from the Moapa Band, drawn from the Band's existing water rights, and delivered to the site via a temporary water pipeline or by truck. Water will be needed during construction for dust control and a minimal amount will be needed during operations for administrative and sanitary water use and panel washings.

The Applicant is expected to operate the energy facility for up to 56 and a half years under the terms of the solar lease with the Moapa Band. The Project is being built to meet the power purchase agreement (PPA) for its output.

The EIS will focus on the Proposed Action as described above at the location on the Reservation selected by the Moapa Band. It will evaluate the Proposed Action and the No Action Alternative. Additional viable alternatives may be identified in response to issues raised during the scoping process.

C. Summary of Expected Impacts

Potential impacts to be addressed in the EIS analysis may include, but would not be limited to, impacts on water resources, biological resources, threatened and endangered species, cultural resources, Native American religious concerns, aesthetics, and traffic. In addition to those resource topics identified above, Federal, State, and local agencies, along with other stakeholders that may be interested or affected by the BIA's decision on the proposed Projects, are invited to participate in the scoping process to identify additional issues to be addressed.

D. Anticipated Permits and Authorizations

In addition to the land lease and ROWs to be approved by BIA and the ROWs to be approved by BLM, the Project would also require other permits and authorizations. These could include a Utility Environmental Protection Act (UEPA) permit from the Public Utilities Commission of Nevada and/or dust control and special use permits from Clark County.

II. EIS Preparation

A. Lead and Cooperating Agencies

BIA will prepare the EIS in cooperation with the Moapa Band, BLM, Environmental Protection Agency (EPA), U.S. Fish and Wildlife Service (USFWS), and possibly the National Park Service (NPS), Nevada Department of Wildlife (NDOW), and Nevada Department of Transportation (NDOT). The resulting EIS will aim to (1) provide agency decision makers, the Moapa Band, and the general public with a comprehensive understanding of the impacts of the proposed development of the solar field on the Reservation; (2) describe the impacts of increased development on the Reservation; and (3) identify and propose mitigation measures that would minimize or prevent significant adverse impacts.

B. Schedule for the Decision-Making Process

The EIS will provide a framework for BIA and BLM to make determinations and to decide whether to take the aforementioned Federal actions. The Records of Decision (RODs) to be issued by the BIA and BLM are currently scheduled for June 2022.

C. Nature of Decision To Be Made

The BIA and the BLM decisions, if approved, would assist in addressing the management objectives in the Energy Policy Act of 2005 (Title II, Section 211) and Secretarial Order 3285A1 (March 11, 2009) that established the development of environmentally responsible renewable energy as a priority for the Department of the Interior.

Because the BIA has a jurisdictional trust responsibility over Indian lands and the BLM has land management responsibilities under FLPMA, the Project is a major Federal action and must comply with the National Environmental Policy Act (NEPA) of 1969 (42 U.S.C. 4321 et seq.). Because most of the Projects would be located on tribal trust lands, the BIA is the lead federal agency. The BIA and BLM will use this EIS to make their respective decisions and the other cooperating parties will use this information to support their analyses and decisions, as needed.

III. Public Scoping Process

This notice of intent initiates the scoping process, which guides the development of the EIS.

A. Public Scoping Meetings

Two public scoping meetings will be conducted virtually to further describe the Projects and identify potential issues and alternatives to be considered in the EIS. The public meetings can be joined online through the Projects website at www.YahthumbSolarProjectEIS.com. Those unable to live stream the presentation would be able to access the meeting presentation on the project website and could join by telephone. Additionally, the live presentation will be recorded and made accessible for viewing throughout the scoping period. During the virtual meetings, a short presentation will be provided and team members will be available to discuss and answer questions. The PowerPoint presentation will be posted to the Project website and printed copies will be made available at the BLM Las Vegas Field Office and the Moapa River Indian Reservation Tribal Hall prior to the meetings. The dates of the public scoping meetings will be included in notices to be posted in the Las Vegas Sun, Las Vegas Review-Journal, and Moapa Valley Progress 15 days before the meetings.

B. Directions for Preparing Comments

Please include your name, return address, and the caption “EIS, Yahthumb Solar Project,” on the first page of any written comments. It is important that reviewers provide their comments in such manner that they are useful to the agency's preparation of the EIS. Therefore, please clearly articulate your concerns and contentions. Interested parties are invited to identify potential alternatives, issues to be analyzed, mitigation measures, and other information to be considered in the EIS.

C. Directions for Submitting Comments

Please submit comments by the date listed in the DATES section of this notice to the address listed in the ADDRESSES section of this notice. You may also submit comments at the public scoping meetings.

D. Public Comment Availability

Written comments, including names and addresses of respondents, will be available for public review at the BIA Western Regional Office, at the mailing address shown in the ADDRESSES section during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

IV. Authority

This notice is published in accordance with section 1503.1 of the Council on Environmental Quality regulations (40 CFR 1500 et seq.) and the Department of the Interior Regulations (43 CFR part 46) implementing the procedural requirements of the National Environmental Policy Act (42 U.S.C. 4321 et seq.), and in accordance with the exercise of authority delegated to the Principal Deputy Assistant Secretary—Indian Affairs by part 209 of the Department Manual.

Bryan Newland,
Principal Deputy Assistant Secretary—Indian Affairs.

[FR Doc. 2021-13578 Filed 6-24-21; 8:45 am]

BILLING CODE 4337-15-P